DEPARTMENT OF THE INTERIOR

Bureau of Land Management

[Cost Code: 1220 AL]

Notice of Availability of Record of Decision for the Truckhaven Geothermal Leasing Area Final Environmental Impact Statement, California

AGENCY: Bureau of Land Management, Interior.

ACTION: Record of Decision.

SUMMARY: In accordance with the National Environmental Policy Act of 1969 (NEPA, 42 U.S.C. 4321 et seq.), the Federal Land Policy and Management Act of 1976 (FLPMA, 43 U.S.C. 1701 et seq.) and the Bureau of Land Management (BLM) management policies, the BLM announces the availability of the Record of Decision (ROD) for the Truckhaven Geothermal Leasing Area, Imperial County, managed by the El Centro Field Office. The El Centro Field Manager has signed the ROD, which constitutes the final decision of the BLM.

DATES: The appeal period will end 30 days after publication of this notice in accordance with 43 CFR 4.411(a).

ADDRESSES: Copies of the ROD are available upon request from the Field Manager, El Centro Field Office, Bureau of Land Management, 1661 S. 4th Street, El Centro, CA 92243 or via the Internet at http://www.ca.blm.gov/elcentro. Copies of the ROD are available for public inspection at the following locations:

• Bureau of Land Management, California State Office, 2800 Cottage Way, Suite W-1834, Sacramento, CA 95825.

• Bureau of Land Management, El Centro Field Office, 1661 S. 4th Street, El Centro, CA 92243.

• Bureau of Land Management, California Desert District, 22835 Calle San Juan De Los Lagos, Moreno Valley, CA 92553.

FOR FURTHER INFORMATION CONTACT: John Dalton, Truckhaven Geothermal Leasing Area EIS Project Manager, at (951) 691-5200, Bureau of Land Management, 22835 Calle San Juan De Los Lagos, Moreno Valley, CA 92553; john_dalton@ca.blm.gov.

SUPPLEMENTARY INFORMATION: The Truckhaven Geothermal Leasing Area encompasses approximately 14,731 acres of Federal minerals in western Imperial County, California, north of State Route 78 and generally west and south of County Highway S-22. The area is part of the California Desert Conservation Area. The main issues addressed in the Final EIS were geothermal resource leasing, recreation, and special status species. Three alternatives were analyzed in the Final EIS: (1) No action, which would not lease any geothermal resources; (2) leasing only lands with existing noncompetitive lease applications; and (3) the proposed action, which would offer all BLM managed lands within this area for lease, subject to certain stipulations and mitigation measures to be applied either at lease issuance or at the development stage.

After careful consideration of all factors, including balancing the need for renewable energy, the need to protect biological, cultural and visual values, and the need to maintain areas for recreational opportunities associated with the Ocotillo Wells State Vehicle Recreation Area, the BLM has selected Alternative 3 as the preferred alternative. Some areas will be required by stipulation to unitize as appropriate in order to consolidate production facilities and, thereby, minimize surface impacts. Two power plants are anticipated to be constructed within the planning area, which would involve an initial disturbance of approximately 502 acres. Following construction, approximately 95 acres would be reclaimed, leaving approximately 405 acres disturbed by roads, well pads, pipelines, and the two plants. Various site-specific Conditions of Approval will be imposed at the development stage to protect other resources and uses.

Comments on the Truckhaven Geothermal Leasing Area Draft EIS received from the public and via internal BLM review were incorporated into the Final EIS. These comments resulted in corrections, clarifying text, and the addition of new data used in the analysis of impacts. The Final EIS Truckhaven Geothermal Leasing Area addresses comprehensive, long-range decisions for the use and management of geothermal resources in the planning area and management of other resources and uses potentially affected by geothermal resource management decisions. The ROD for this project addresses only BLM's decisions for public lands and resources administered by BLM.

Sean E. Hagerty.
Acting Deputy State Director, Division of Energy and Minerals, BLM—California State Office.

[FR Doc. E8-17556 Filed 7-31-08; 8:45 am]

BILLING CODE 4310-40-P